DEPARTMENT OF ENERGY

Electricity Subsector Cybersecurity Risk Management Process

AGENCY: Office of Electricity Delivery and Energy Reliability, Department of Energy.

ACTION: Notice of publication.

SUMMARY: This serves as public notification of the publication, by the Department of Energy (DOE) of the Electricity Subsector Cybersecurity Risk Management Process guideline. The guideline describes a risk management process that is targeted to the specific needs of electricity sector organizations. The objective of the guideline is to build upon existing guidance and requirements to develop a flexible risk management process tuned to the diverse missions, equipment, and business needs of the electric power industry. The document was posted on May 23, 2012.

FOR FURTHER INFORMATION CONTACT: Request for additional information should be directed to Matthew Light at matthew.light@hq.doe.gov, phone 202-316-5115.

SUPPLEMENTARY INFORMATION: DOE has published the document entitled: Electricity Subsector Cybersecurity Risk Management Process. The primary goal of this guideline is to describe a risk management process that is targeted to the specific needs of electricity sector organizations. The objective of the guideline is to build upon existing guidance and requirements to develop a flexible risk management process tuned to the diverse missions, equipment, and business needs of the electric power industry.

The Electricity Subsector Cybersecurity Risk Management Process guideline was developed by the DOE, in collaboration with the National Institute of Standards and Technology (NIST), the North American Electric Reliability Corporation (NERC), and representatives from both the public and private sector. Additionally, the document was provided to the public during two public comment periods. The NIST Special Publication 800-39, Managing Information Security Risk provides the foundational methodology for this document.

The Electricity Sector Cybersecurity Risk Management Process Guideline is available at: http://energy.gov/node/368191.

Authority: Homeland Security Presidential Directive 7 (HSPD-7).

Issued at Washington, DC on May 18, 2012.
Patricia A. Hoffman,
Assistant Secretary, Electricity Delivery and Energy Reliability.

[FR Doc. 2012-12484 Filed 5-22-12; 8:45 am]

BILLING CODE 6450-01-P